DEPARTMENT OF COMMERCE

National Oceanic and Atmospheric Administration

RIN 0648-XV18

Endangered and Threatened Species; Notice of Intent to Prepare a Recovery Plan for Central California Coast Coho Salmon

AGENCY: National Marine Fisheries Service (NMFS), National Oceanic and Atmospheric Administration (NOAA), Commerce.

ACTION: Notice of availability; request for comments and notice of public meetings.

SUMMARY: NMFS announces that the Draft Recovery Plan for Central California Coast coho salmon (Draft Plan) is available for public review and comment. The Draft Plan addresses the Central California Coast coho salmon (Oncorhynchus kisutch) Evolutionarily Significant Unit (ESU). NMFS is soliciting review and comment from the public and all interested parties on the Draft Plan. In addition, public meetings will be announced as opportunities for providing comments on the Draft Plan (dates to be determined).

DATES: NMFS will consider and address all substantive comments received during the comment period. Comments must be received no later than 5 p.m. Pacific daylight time on May 17, 2010. Public meetings will also be held (see Public Meetings section below).

ADDRESSES: Comments may be submitted by any of the following methods:

• Via email: CohoRecovery.swr@noaa.gov (No files larger than 5MB can be accepted).

• Via U.S. mail: Charlotte A. Ambrose, National Marine Fisheries Service, 777 Sonoma Avenue, Suite 325, Santa Rosa, CA 95404 ATTN: Recovery Coordinator/CCC Coho Salmon Public Draft Recovery Plan Comments.

• Hand delivered: National Marine Fisheries Service, 777 Sonoma Avenue, Suite 325, Santa Rosa, CA 95404 ATTN: Recovery Coordinator/CCC Coho Salmon Comments. Business hours are 8 am to 5 pm Monday through Friday, except Federal holidays.

• Via fax: 707-578-3435. Please include the following on the cover page of the fax “ATTN: Recovery Coordinator/CCC Coho Salmon Public Draft Recovery Plan Comments”.

FOR FURTHER INFORMATION CONTACT: Charlotte Ambrose, North Central California Coast Recovery Coordinator (707-575-6068).

SUPPLEMENTARY INFORMATION: NMFS is charged with the recovery of Pacific salmon and steelhead species listed under the ESA. Recovery means that listed species and their ecosystems are restored, and their future secured, so that the protections of the ESA are no longer necessary. The ESA specifies that recovery plans must include: (1) a description of management actions necessary to achieve the plan's goals for the conservation and survival of the species; (2) objective, measurable criteria which, when met, would result in the species being removed from the list; and (3) estimates of time and costs required to achieve the plan's goal and the intermediate steps towards that goal. Section 4(f) of the ESA, as amended in 1988, requires that public notice and an opportunity for public review and comment be provided during recovery plan development. NMFS is hereby soliciting relevant information on CCC Coho Salmon ESU populations and their freshwater/marine habitats.

NMFS worked closely with the California Department of Fish and Game to integrate, where appropriate, recovery actions included in the previously approved February 2004 Recovery Strategy for California Coho Salmon. The document was used as a foundational tool to aid in the development of the Draft Plan. NMFS requests relevant information from the public that should be considered by NMFS during preparation of the final recovery plan.

Persons wishing to review the Draft Plan can obtain an electronic copy (i.e., CD ROM) from Ms. Andrea Berry by calling 1-866-300-2948 or by e-mailing a request to andrea.berry@noaa.gov with the subject line “CD ROM Request for CCC coho Salmon and Recovery Draft Plan.” Electronic copies of the Draft Plan are also available on line on the following NMFS websites:

• http://swr.nmfs.noaa.gov/recovery

• ftp://ftp.afsc.noaa.gov/SWR/Public/Public draft recovery plan CCC coho salmon/

Public Meetings

Public meetings are planned for Ft. Bragg, Santa Cruz and Santa Rosa, CA. Information on exact locations, dates and times will be posted on the above website.

Authority: 16 U.S.C. 1531 et seq.

Dated: March 15, 2010.
Angela Somma,
Chief, Endangered Species Division, Office of Protected Resources, National Marine Fisheries Service.

[FR Doc. 2010-5983 Filed 3-17-10; 8:45 am]

BILLING CODE 3510-22-S